DEPARTMENT OF HOMELAND SECURITY

Federal Emergency Management Agency

[Docket ID: FEMA-2021-0023; OMB No. 1660-0146]

Agency Information Collection Activities: Proposed Collection; Comment Request; Post Disaster Survivor Preparedness Research Survey

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use. This notice seeks comments concerning a collection to obtain information from recent disaster survivors while they have current memories of their experience to better provide necessary direction, coordination, and guidance for emergency preparedness for the protection of life and property in the United States from hazards.

DATES: Comments must be submitted on or before May 13, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Christi Collins, Individual and Community Preparedness Branch Chief, Federal Emergency Management Agency, at (202) 646-2500 or FEMA-Prepare@fema.dhs.gov.

SUPPLEMENTARY INFORMATION: The Stafford Act, Title VI, Emergency Preparedness identifies the purpose of emergency preparedness for the protection of life and property in the United States from hazards. 42 U.S.C. 5195. It directs that the Federal Government provide necessary direction, coordination, and guidance as authorized for a comprehensive emergency preparedness system for all hazards. Id. The definition of emergency preparedness includes all activities and measures designed or undertaken to prepare or minimize the effects of a hazard upon the civilian population. 42 U.S.C. 5195a(3). The conduct of research is among the measures to be undertaken in preparation for hazards. See Id.

This proposed information collection previously published in the Federal Register on October 13, 2021, at 86 FR 56976 with a 60 day public comment period. One public comment was received, but is not germane to this collection. The purpose of this notice is to notify the public that FEMA will submit the information collection abstracted below to the Office of Management and Budget for review and clearance.

Collection of Information

Title: Post Disaster Survivor Preparedness Research Survey.

Type of Information Collection: Revision of a currently approved information collection.

OMB Number: 1660-0146.

FEMA Forms: FEMA Form FF-008-FY-21-112 (formerly FEMA Form 519-0-54), Post Disaster Survivor Preparedness Research: Instruments.

Abstract: The economic and human toll of major disasters in the United States is increasing and historically underserved communities are disproportionately impacted. Poverty, race, limited English proficiency, age, and other demographic, cultural, and socio-economic variables can significantly inhibit people's ability to take steps to prepare. To reverse this trend, emergency managers must ensure historically undeserved communities receive critical information that helps each person take steps to prepare themselves, their families, and their communities. To achieve equity in opportunities to prepare for disasters, FEMA proposes a series of qualitative focus groups, cognitive interviews, and targeted surveys to better understand individual experiences within historically underserved communities during recent disasters. FEMA Form FF-008-FY-21-112 (formerly FEMA Form 519-0-54) is a combined instrument that contains the script and question bank for conducting the focus groups, cognitive interviews, and surveys.

Affected Public: Individuals or households.

Estimated Number of Respondents: 3,120 respondents.

Estimated Number of Responses: 3,120 responses.

Estimated Total Annual Burden Hours: 650.

Estimated Total Annual Respondent Cost: $25,513.

Estimated Respondents' Operation and Maintenance Costs: $0.00.

Estimated Respondents' Capital and Start-Up Costs: $0.00.

Estimated Total Annual Cost to the Federal Government: $188,267.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-07890 Filed 4-12-22; 8:45 am]

BILLING CODE 9111-27-P